NATIONAL FOUNDATION FOR THE ARTS AND THE HUMANITIES

National Endowment for the Arts; President's Committee on the Arts and the Humanities: Meeting #52

Pursuant to Section 10 (a)(2) of the Federal Advisory Committee Act (Pub. L. 92-463), as amended, notice is hereby given that a meeting of the President's Committee on the Arts and the Humanities will be held on April 23, 2002 from 10:45 a.m. to approximately 1:00 p.m. The meeting will be held in the Hubbard Hall Board Room of the National Geographic Society, 16th and M Streets, NW., Washington, DC 20036-4688.

The Committee meeting will begin at 10:45 a.m. with a welcome and introductions by Adair Margo, Committee Chairman. Agency heads Robert Martin (Director, Institute of Museum and Library Services), Bruce Cole (Chairman, National Endowment for the Humanities), and Eileen Mason (Acting Chairman, National Endowment for the Arts) will present reports, and Henry Moran, Executive Director of the President's Committee on the Arts and the Humanities will then present an Executive Director's update. This will be followed by general discussion and closing remarks from the Committee Chairman.

The President's Committee on the Arts and the Humanities was created by Executive Order in 1982 to advise the President, the two Endowments, and the Institute of Museum and Library Services on measures to encourage private sector support for the nation's cultural institutions and to promote public understanding of the arts and the humanities.

If, in the course of discussion, it becomes necessary for the Committee to discuss non-public commercial or financial information of intrinsic value, the Committee will go into closed session pursuant to subsection (c) (4) of the Government in the Sunshine Act, 5 U.S.C. 552b.

Any interested persons may attend as observers, on a space available basis, but seating is limited. Therefore, for this meeting, individuals wishing to attend must contact Georgianna Paul of the President's Committee in advance at (202) 682-5409 or write to the Committee at 1100 Pennsylvania Avenue, NW, Suite 526, Washington, DC 20506. Further information with reference to this meeting can also be obtained from Ms. Paul.

If you need special accommodations due to a disability, please contact Ms. Paul through the Office of AccessAbility, National Endowment for the Arts, 1100 Pennsylvania Avenue, NW., Washington, DC 20506, 202/682-5532, TDY-TDD 202/682-5496, at least seven (7) days prior to the meeting.

Dated: March 25, 2002.
Kathy Plowitz-Worden,
Panel Coordinator, Panel Operations, National Endowment for the Arts.

[FR Doc. 02-7587 Filed 3-28-02; 8:45 am]

BILLING CODE 7537-01-P